DEPARTMENT OF ENERGY

Federal Energy Regulatory Commission

[Docket No. EL00-49-000]

NRG Power Marketing, Inc. v. New York Independent System Operator, Inc.; Notice of Complaint

March 10, 2000.

Please take notice that on March 8, 2000, NRG Power Marketing, Inc. (NRG) tendered for filing a Complaint against the New York Independent System Operator, Inc. (NYISO) objecting to the NYISO's retroactive reductions of the market clearing prices for power provided during particular hours on December 11 and 12, 2000.

A copy of this filing was served upon Respondent, the NYSIO.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before March 28, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 28, 2000.

David P. Boergers,
Secretary.

[FR Doc. 00-6457 Filed 3-15-00; 8:45 am]

BILLING CODE 6717-01-M